DEPARTMENT OF ENERGY

Federal Energy Regulatory Commission

[Docket No. CP19-512-000]

Texas Eastern Transmission, L.P.; Notice of Schedule for Environmental Review of the Cameron Extension Project

On September 26, 2019, Texas Eastern Transmission, L.P. (Texas Eastern) filed an application in Docket No. CP19-512-000 requesting a Certificate of Public Convenience and Necessity pursuant to Section 7(c) of the Natural Gas Act to construct and operate certain natural gas pipeline facilities in Louisiana. The proposed project is known as the Cameron Extension Project (Project), and would provide 750 million cubic feet per day of firm transportation service.

On October 9, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 9, 2020.

90-day Federal Authorization Decision Deadline—June 7, 2020.

If a schedule change becomes necessary, additional notice will be provided so that the relevant agencies are kept informed of the Project's progress.

Project Description

Texas Eastern proposes to construct and operate a new compressor station (East Calcasieu Compressor Station) in Calcasieu Parish, Louisiana. The new compressor station is comprised of one 30,000 ISO-rated horsepower, natural gas-driven turbine compressor unit and related appurtenances. The Project would also consist of three new delivery meter and regulatory stations in Cameron, Beauregard, and Jefferson Davis Parishes, Louisiana; installation of 0.2 mile of 30-inch-diameter piping to interconnect with TransCameron Pipeline, LLC's pipeline system in Cameron Parish, Louisiana; installation of miscellaneous equipment at the Gillis Compressor Station in Beauregard Parish, Louisiana; modifications to existing internal pipeline inspection launcher and receiver facilities and two new bypass facilities at existing sites along Texas Eastern's Line 41; and other related auxiliary facilities and appurtenances.

Background

On November 8, 2019, the Commission issued a Notice of Intent to Prepare an Environmental Assessment for the Proposed Cameron Extension Project and Request for Comments on Environmental Issues (NOI). The NOI was sent to affected landowners; federal, state, and local government representatives and agencies; elected officials; Native American tribes; other interested parties; and local libraries and newspapers. All substantive comments in response to the NOI will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-512), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 22, 2019.
Nathaniel J. Davis, Sr.,
Deputy Secretary.

[FR Doc. 2019-25915 Filed 11-27-19; 8:45 am]

BILLING CODE 6717-01-P